FEDERAL MARITIME COMMISSION

Ocean Transportation Intermediary License Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/Address | Date reissued
003095F | Flamingo International, Inc. 7185 NW 87th Avenue, Miami, FL 33178 | May 1, 2010.
018012N | Speedex Air & Ocean, Inc. 13337 South Street, Suite 34, Cerritos, CA 90703 | June 14, 2010.
021623N | Victory Worldwide Inc. 1500 Midway Court, Suite W-104, Elk Grove Village, IL 60007 | May 15, 2010.

Sandra L. Kusumoto,
Director, Bureau of Certification and Licensing.

[FR Doc. 2010-18532 Filed 7-27-10; 8:45 am]

BILLING CODE 6730-01-P